DEPARTMENT OF TRANSPORTATION

Federal Highway Administration

Notice of Final Federal Agency Action on the Proposed Highway in Georgia [Northwest I-75/I-575 Corridor, Cobb and Cherokee Counties, Georgia (Atlanta Metropolitan Area)]

AGENCY: Federal Highway Administration (FHWA), DOT.

ACTION: Notice of Limitations on Claims for Judicial Review of Actions by Army Corps of Engineers (USACE), DOD and Other Federal Agencies.

SUMMARY: This notice announces actions taken by USACE and other Federal agencies that are final within the meaning of 23 U.S.C. 139(l)(1). The action relates to the Northwest (I-75/I-575) (from Akers Mill Road to Hickory Grove Road on Interstate 75 (I-75) and from I-75 to Sixes Road on I-575) located in Cobb and Cherokee Counties, Georgia. The approximate length of the project is 29.7 miles. Those actions grant licenses, permits and approvals for the project.

DATES: By this notice, the FHWA is advising the public of the final agency actions subject to 23 U.S.C. 139(l)(1). A claim seeking judicial review of the Federal agency action on the highway project will be barred unless the claim is filed on or before June 29, 2015. If the Federal law that authorizes judicial review of a claim provides a time period of less than 150 days for filing such claim, then that shorter time period still applies.

FOR FURTHER INFORMATION CONTACT: Mr. Rodney Barry, Division Administrator, Georgia Division, Federal Highway Administration, 61 Forsyth Street, Suite 17T100; Atlanta, Georgia 30303; FHWA's normal business hours are 8:00 a.m. to 5:00 p.m. (eastern time) Monday through Friday, 404-562-3630; email: Rodney.Barry@dot.gov. For USACE: Edward Johnson, Chief, Regulatory Branch, U.S. Army Corps of Engineers, Savannah District-Piedmont Branch, 1590 Adamson Parkway, Suite 200, Morrow, Georgia 30260-1777; telephone (678) 422-2235, Email: Edward.B.Johnson@usace.army.mil. USACE's normal business hours are 8:00 a.m. to 5:00 p.m. (Eastern time) Monday through Friday. For Georgia Department of Transportation (GDOT): Mr. Russell McMurray, Commissioner, Georgia Department of Transportation, 600 West Peachtree Street, 22th Floor, Atlanta, Georgia 30308, 8:00 a.m. to 5:00 p.m. (eastern time) Monday through Friday, Telephone: (404) 631-1005, Email: RMcMurray@dot.ga.gov.

SUPPLEMENTARY INFORMATION: On May 30, 2013, the FHWA published a “Notice of Final Federal Agency Actions on Proposed Highway in Georgia the Northwest I-75/I-575 Corridor, Cobb and Cherokee Counties, Georgia (Atlanta Metropolitan Area) in the Federal Register at [78 FR 32530] for the following highway project: The Northwest Corridor (from Akers Mill Road to Hickory Grove Road on Interstate 75 (I-75) and from I-75 to Sixes Road on I-575) located in metropolitan Atlanta, Georgia. The Selected Alternative will extend the two-I-75 managed lanes that currently terminate Akers Mill Road south of the I-75/I-285 interchange. Two managed lanes would extend north to the I-75/I-575 interchange. A single managed lane would continue north on I-75 from the I-75/I-575 interchange to just beyond Hickory Grove Road. A single managed lane would continue north on I-575 from the I-75/I-575 interchange to the Sixes Road interchange. The facility will include improvements of approximately 16.8 miles on I-75, 11.3 miles on I-575 and 1.6 miles on I-285. The facility will be tolled by electronic toll lane (ETL). The actions by the Federal agencies and the laws under which such actions were taken are described in the Final Environmental Impact Statement (FEIS) and the reevaluation of the FEIS for the Northwest Corridor Project, approved on October 12, 2011 and March 18, 2013 respectively, a FHWA Record of Decision (ROD) issued on May 23, 2013. Notice is hereby given that, subsequent to the earlier FHWA notice, the USACE has taken final agency actions within the meaning of 23 U.S.C. 139(l)(1) by issuing permits and approvals for the highway project. The actions by the USACE, related final actions by other Federal agencies, and the laws under which such actions were taken, are described in the USACE decisions and its project records, referenced as [SAS-2011-00754].

Information about the project and project records also are available from FHWA and the Georgia Department of Transportation at the addresses provided above. The FHWA National Environmental Policy Act (NEPA) documents such as the Supplemental Draft Environmental Impact Statement (SDEIS), Final Environmental Impact Statement (FEIS), FEIS Reevaluation and the Record of Decision (ROD) can be viewed and downloaded from project Web site at http://www.nwcproject.com or viewed at GDOT's Northwest Corridor Field Office. The office is located at 889 Franklin Road, Suite 180, Marietta, GA 30067. The USACE decision can be viewed and downloaded from the project Web site at http://www.nwcproject.com or viewed at GDOT's Northwest Corridor Field Office. The office is located at 889 Franklin Road, Suite 180, Marietta, GA 30067.

This notice applies to all USACE and other Federal agency final actions taken after the issuance date of the FHWA Federal Register notice described above. The laws under which actions were taken include, but are not limited to:

1. Wetlands and Water Resources: Clean Water Act, 33 U.S.C. 1251-1377 [Section 404, Section 401, Section 319]; 33 U.S.C. 408 Section 14; 33 CFR 208.10; Safe Drinking Water Act [42 U.S.C. 300f et seq.]; TEA-21 Wetlands Mitigation [23 U.S.C. 103(b)(6)(m), 133(b)(11)]. Flood Disaster Protection Act [42 U.S.C. 4001-12].

Executive Orders: E.O. 11990, Protection of Wetlands; TEA-21 Wetlands Mitigation (Sections 103 and 133) [23 U.S.C. 103(b)(6)(m), 133(b)(11)].

(Catalog of Federal Domestic Assistance Program Number 20.205, Highway Planning and Construction. The regulations implementing Executive Order 12372 regarding intergovernmental consultation on Federal programs and activities apply to this program.)

Authority: 23 U.S.C. 139(l)(1), as amended by Moving Ahead for Progress in the 21st Century Act (MAP-21), Pub. L. 112-141, § 1308, 126 Stat. 405 (2012).

Issued on: January 26, 2015.
Rodney Barry,
Division Administrator, Atlanta, Georgia.

[FR Doc. 2015-01821 Filed 1-29-15; 8:45 am]

BILLING CODE P